DEPARTMENT OF THE INTERIOR

Fish and Wildlife Service

[FWS-R1-R-2016-N167; 1265-0000-10135-S3]

Marianas Trench Marine National Monument, Commonwealth of the Northern Mariana Islands; Completion of the Northern Islands Submerged Lands Transfer to the Commonwealth of the Northern Mariana Islands

AGENCY: Fish and Wildlife Service, Interior.

ACTION: Notice of availability.

SUMMARY: We, the U.S. Fish and Wildlife Service (Service), announce the availability of our finding of no significant impact (FONSI) and final environmental assessment (Final EA) for the Marianas Trench Marine National Monument (Monument) Northern Islands Submerged Lands (submerged lands) Transfer to the Commonwealth of the Northern Mariana Islands (CNMI). The FONSI documents our decision to implement Alternative 2, as it is described in the Final EA, resulting in the Department of the Interior (DOI) conveying title to certain submerged lands within the Monument from the United States to the CNMI Government through a Patent, under the authority of the Territorial Submerged Lands Act (TSLA), as amended, 48 U.S.C. 1705, et seq. The effective date of the submerged lands transfer was December 21, 2016, the day the Patent was signed by the Governor of the CNMI.

DATES: The Service's Regional Director, Pacific Region, signed the FONSI on September 15, 2016, and the conveyance was effective December 21, 2016.

ADDRESSES: You may download the FONSI, Final EA, and related documents from our Web site https://www.fws.gov/marianastrenchmarinemonument/, and view copies of them in person at the libraries listed under SUPPLEMENTARY INFORMATION.

You may direct questions to the Service regarding the submerged lands transfer by any one of the following methods.

Email: fw1_sltransfer_cnmi@fws.gov. Include “Submerged Lands Transfer” in the subject line of the message.

Fax: Attn: Charles Houghten, 503-231-6161.

U.S. Mail: U.S. Fish and Wildlife Service, Pacific Region, Attn: Charles Houghten, Chief, Lands Division, 911 NE 11th Ave., Portland, OR 97232.

FOR FURTHER INFORMATION CONTACT: Charles Houghten, 503-231-6207 (phone).

SUPPLEMENTARY INFORMATION:

Introduction

With this notice, we are announcing the completion of our Final EA, FONSI, Memorandum of Agreement (MOA), and Patent, developed in cooperation with the National Oceanic and Atmospheric Administration (NOAA) and the CNMI Government. Copies of the documents are available on the Monument's Web site: https://www.fws.gov/refuge/mariana_trench_marine_national_monument/.

The Final EA and FONSI were developed in compliance with the National Environmental Policy Act (NEPA) of 1969, as amended (42 U.S.C. 4321 et seq.); NEPA Regulations (40 CFR parts 1500-1508); other Federal laws and regulations; and our policies and procedures for compliance with those laws and regulations.

The subject of our Final EA and FONSI is the submerged lands adjacent to the islands of Farallon de Pajaros (Uracas), Maug, and Asuncion permanently covered by tidal waters up to the mean low water line and extending three miles seaward from the mean high tide line. The submerged lands are among some of the most biologically diverse in the Western Pacific Ocean, with relatively pristine coral reef ecosystems that have been proclaimed objects of scientific interest and reserved for their protection as part of the Islands Unit of the Monument by Presidential Proclamation (PP) 8335 of January 6, 2009.

The submerged lands were excepted from transfer by operation of law (TSLA) to the CNMI Government by PP 9077 of January 15, 2014. PP 9077 also stated that it did not affect the authority of the Secretary of the Interior under the TSLA to convey the excepted submerged lands to CNMI after an agreement has been entered for coordination of management that ensures the protection of the Monument within the excepted area. We developed the agreement (Memorandum of Agreement or MOA) in cooperation with the CNMI Government, DOI, and the Department of Commerce (DOC) as part of our conveyance process and Draft and Final EA.

Submerged Lands Conveyance Process

Draft and Final EA

We released our Draft EA to the public for a 30-day comment period announced in the Federal Register (81 FR 26825) on May 4, 2016. We identified two alternatives in the Draft EA and conducted a thorough analysis of their impacts on the human environment. We received comments during the May-June 2016 public comment period; substantive comments and our responses are provided in the Final EA. Comments concerning technical or minor edits were incorporated where relevant into the Final EA.

Alternatives/Selected Alternative

Alternative 1 was the Current Land Status Alternative (No Action); under it, DOI would not convey the submerged lands, including associated mineral rights to CNMI, and the Service and NOAA would continue to coordinate management of the submerged lands and associated waters, including fishery-related activities, in consultation with the CNMI Government.

We selected Alternative 2 for implementation in our Finding of No Significant Impact, signed by the Service's Regional Director for the Pacific Region on September 15, 2016. Under this alternative (the Northern Islands Submerged Lands Conveyance Alternative), the parties would sign the MOA, and DOI would convey the submerged lands, including mineral rights, to the CNMI Government through the Patent with a reserved conservation easement.

Memorandum of Agreement

The MOA was signed by the CNMI Government, DOI, and the Department of Commerce (DOC), on September 22, 2016. The MOA identifies the roles and responsibilities of the CNMI Government, DOI, and DOC, for ensuring the protection of and coordinating the management of the conveyed submerged lands and associated waters. Under the MOA, the Service and NOAA are managing the conveyed submerged lands for the benefit of the CNMI people and in consultation with the CNMI Government.

The MOA provides for the CNMI Government to assume primary responsibility for managing the submerged lands and associated waters, consistent with the purposes and requirements of PP 8335 and PP 9077, by notifying DOI and DOC of its desire to do so. CNMI's management would include the benthic and living marine resources of the associated water column, and subterranean of the submerged lands and the associated mineral rights within. The MOA became effective upon conveyance of the submerged lands, consistent with the requirements of PP 9077. A copy of the MOA is available in the Final EA.

Congressional Review and Patent

Completing the Draft EA and public comment period, and the Final EA, FONSI, MOA, and Patent, were milestone accomplishments in our conveyance process. After the public comment period ended for the Draft EA, we initiated the Congressional Review (CR) period for the proposed conveyance, in accordance with the process required by subsection 1(c) of the TSLA. The CR period was 60 legislative days, which was initiated by the Secretary of the Interior by describing our proposal in letters to the House of Representatives Committee on Natural Resources and the Senate Committee on Energy and Natural Resources, dated June 17, 2016. The CR period was completed on November 14, 2016, thereafter we moved forward with completing the conveyance.

Interior Secretary Sally Jewell executed a Patent conveying the submerged lands from the United States to the CNMI Government on November 29, 2016. Governor Ralph Torres (CNMI) accepted and signed the patent on December 21, 2016. The Patent reserves an easement to ensure that the submerged lands and associated resources conveyed to the CNMI Government are managed and maintained for the protection of the Monument or other federal conservation status, unless such conservation status is withdrawn by an Act of Congress. A copy of the Patent is available in an appendix in the Final EA.

Public Availability of Documents

A copy of the Final EA/FONSI, which includes copies of the MOA and Patent, are available at the following libraries and through sources identified under ADDRESSES.

• Joeten-Kiyu Public Library, Insåtto Street, Susupe, Sa'ipan, MP, 96950-1092.

• Tini'an Municipal Public Library, Riverside Drive, Tinian, MP 96952.

• Antonio Camacho Atalig Memorial Library, Rota Northern Marianas Campus, Tatachog Village, Rota, MP.

Robyn Thorson,
Regional Director, Pacific Region, Portland, Oregon.

[FR Doc. 2017-00404 Filed 1-10-17; 8:45 am]

BILLING CODE 4333-15-P